DEPARTMENT OF ENERGY

Federal Energy Regulatory Commission

Combined Notice of Filings #1

Take notice that the Commission received the following electric corporate filings:

Docket Numbers: EC19-65-000.

Applicants: Imperial Valley Solar, LLC.

Description: Application for Authorization Under Section 203 of the Federal Power Act, et al. of Imperial Valley Solar, LLC.

Filed Date: 3/4/19.

Accession Number: 20190304-5169.

Comments Due: 5 p.m. ET 3/25/19.

Take notice that the Commission received the following exempt wholesale generator filings:

Docket Numbers: EG19-63-000.

Applicants: AES ES Gilbert, LLC.

Description: Notice of Self-Certification of Exempt Wholesale Generator Status of AES ES Gilbert, LLC.

Filed Date: 3/4/19.

Accession Number: 20190304-5207.

Comments Due: 5 p.m. ET 3/25/19.

Take notice that the Commission received the following electric rate filings:

Docket Numbers: ER10-1338-003.

Applicants: Southern Indiana Gas and Electric Company.

Description: Notice of Change in Status of Southern Indiana Gas and Electric Company.

Filed Date: 3/4/19.

Accession Number: 20190304-5198.

Comments Due: 5 p.m. ET 3/25/19.

Docket Numbers: ER10-1437-009.

Applicants: Tampa Electric Company.

Description: Notice of Change in Status of Tampa Electric Company.

Filed Date: 3/4/19.

Accession Number: 20190304-5203.

Comments Due: 5 p.m. ET 3/25/19.

Docket Numbers: ER10-2732-016; ER10-2733-016; ER10-2734-016; ER10-2736-016; ER10-2737-016; ER10-2741-016; ER10-2749-016; ER10-2752-016; ER12-2492-012; ER12-2493-012; ER12-2494-012; ER12-2495-012; ER12-2496-012; ER16-2455-006; ER16-2456-006; ER16-2457-006; ER16-2458-006; ER16-2459-006; ER18-1404-002.

Applicants: Emera Energy U.S. Subsidiary No. 1, Inc, Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, Emera Energy Services, Inc., NS Power Energy Marketing Inc.

Description: Notice of Change in Status of the Emera Entities under.

Filed Date: 3/4/19.

Accession Number: 20190304-5168.

Comments Due: 5 p.m. ET 3/25/19.

Docket Numbers: ER17-259-003.

Applicants: Darby Power, LLC.

Description: Report Filing: Darby Power, LLC—Reactive Refund Report to be effective N/A.

Filed Date: 3/4/19.

Accession Number: 20190304-5161.

Comments Due: 5 p.m. ET 3/25/19.

Docket Numbers: ER17-260-003.

Applicants: Gavin Power, LLC.

Description: Report Filing: Gavin Power, LLC—Reactive Refund Report to be effective N/A.

Filed Date: 3/4/19.

Accession Number: 20190304-5162.

Comments Due: 5 p.m. ET 3/25/19.

Docket Numbers: ER17-261-003.

Applicants: Lawrenceburg Power, LLC.

Description: Report Filing: Lawrenceburg Power, LLC—Reactive Refund Report to be effective N/A.

Filed Date: 3/4/19.

Accession Number: 20190304-5164.

Comments Due: 5 p.m. ET 3/25/19.

Docket Numbers: ER17-262-003.

Applicants: Waterford Power, LLC.

Description: Report Filing: Waterford Power, LLC—Reactive Refund Report to be effective N/A.

Filed Date: 3/4/19.

Accession Number: 20190304-5165.

Comments Due: 5 p.m. ET 3/25/19.

Docket Numbers: ER19-1183-000.

Applicants: Brickyard Hills Project, LLC.

Description: Baseline eTariff Filing: Brickyard Hills Initial Market-Based Rate Application Filing and Waiver Request to be effective 4/30/2019.

Filed Date: 3/4/19.

Accession Number: 20190304-5163.

Comments Due: 5 p.m. ET 3/25/19.

Docket Numbers: ER19-1184-000.

Applicants: Interstate Power and Light Company.

Description: Compliance filing: Market-Based Rate Tariff to be effective 2/5/2019.

Filed Date: 3/5/19.

Accession Number: 20190305-5034.

Comments Due: 5 p.m. ET 3/26/19.

Docket Numbers: ER19-1186-000.

Applicants: Wisconsin Power and Light Company.

Description: Compliance filing: Market-Based Rate Tariff to be effective 2/5/2019.

Filed Date: 3/5/19.

Accession Number: 20190305-5061.

Comments Due: 5 p.m. ET 3/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2019.
Kimberly D. Bose,
Secretary.

[FR Doc. 2019-04328 Filed 3-8-19; 8:45 am]

BILLING CODE 6717-01-P